DEPARTMENT OF COMMERCE

National Oceanic and Atmospheric Administration

RIN 0648-XQ55

Marine Fisheries Advisory Committee

AGENCY: National Marine Fisheries Service (NMFS), National Oceanic and Atmospheric Administration (NOAA), Commerce.

ACTION: Notice of open public meeting.

SUMMARY: This notice sets forth the schedule and proposed agenda of a forthcoming meeting of the Marine Fisheries Advisory Committee (MAFAC). The members will discuss and provide advice on issues outlined in the agenda below.

DATES: The meeting is scheduled for August 11, 2009, from 2 - 3 p.m. Eastern Daylight Time.

ADDRESSES: Conference call. Public access is available at SSMC3, Room 14817, 1315 East-West Highway, Silver Spring, MD 20910.

FOR FURTHER INFORMATION CONTACT: Heidi Lovett, (301) 713-9070 x118; e-mail: Heidi.Lovett@noaa.gov.

SUPPLEMENTARY INFORMATION: The MAFAC was established by the Secretary of Commerce (Secretary) on February 17, 1971, to advise the Secretary on all living marine resource matters that are the responsibility of the Department of Commerce. This committee advises and reviews the adequacy of living marine resource policies and programs to meet the needs of commercial and recreational fisheries, and environmental, State, consumer, academic, tribal, governmental and other national interests. The complete charter and summaries of prior meetings are located online at http://www.nmfs.noaa.gov/ocs/mafac/.

Matters To Be Considered

This agenda is subject to change.

1. Discussion and consideration of recommendations on a national ocean policy, policy coordination and governance, and implementation strategy to the Federal Interagency Ocean Policy Task Force, submitted to MAFAC by the Governance Work Group.

2. Discussion and consideration of recommended revisions and update to Vision 2020, MAFAC's report on the desired future state of U.S. marine fisheries, submitted to MAFAC by the Vision 2020 Work Group.

Dated: July 23, 2009.
James W. Balsiger,
Acting Assistant Administrator for Fisheries, National Marine Fisheries Service.

[FR Doc. E9-17939 Filed 7-27-09; 8:45 am]

BILLING CODE 3510-22-S